DEPARTMENT OF COMMERCE

International Trade Administration

(A-412-822)

Stainless Steel Bar from the United Kingdom: Notice of Rescission of Antidumping Duty Administrative Review

AGENCY: Import Administration, International Trade Administration, Department of Commerce.

ACTION: Notice of Rescission of Antidumping Duty Administrative Review.

EFFECTIVE DATE: May 17, 2004.

FOR FURTHER INFORMATION CONTACT: Kate Johnson or Rebecca Trainor, Import Administration, International Trade Administration, U.S. Department of Commerce, 14th Street and Constitution Avenue, N.W., Washington, D.C. 20230; telephone: (202) 482-4929 or (202) 482-4007, respectively.

SUPPLEMENTARY INFORMATION:

Background

On March 1, 2004, the Department published in the Federal Register (69 FR 9584) a notice of “Opportunity To Request Administrative Review” of the antidumping duty order on stainless steel bar from the United Kingdom for the period March 1, 2003, through February 29, 2004. On March 31, 2004, Corus Engineering Steels Limited (CES) requested an administrative review of its sales for this period. On April 28, 2004, the Department published a notice of initiation of an administrative review of the antidumping duty order on stainless steel bar from the United Kingdom with respect to this company. See Initiation of Antidumping and Countervailing Duty Administrative Reviews, 69 FR 23170.

Rescission of Review

On May 6, 2004, CES timely withdrew its request for an administrative review of its sales during the above-referenced period. Section 351.213(d)(1) of the Department's regulations stipulates that the Secretary will rescind an administrative review if the party that requests a review withdraws the request within 90 days of the date of publication of notice of initiation of the requested review. In this case, CES has withdrawn its request for review within the 90-day period. CES was the sole party to request the initiation of the review; therefore, we are rescinding this review of the antidumping duty order on stainless steel bar from the United Kingdom.

This notice is published in accordance with section 751 of the Tariff Act of 1930, as amended, and 19 CFR 351.213(d)(4).

Dated: May 11, 2004.
Jeffrey May,
Deputy Assistant Secretary for Import Administration.

[FR Doc. 04-11119 Filed 5-14-04; 8:45 am]

BILLING CODE 3510-DS-S